DEPARTMENT OF ENERGY

Federal Energy Regulatory Commission

Combined Notice of Filings # 1

June 23, 2010.

Take notice that the Commission received the following electric corporate filings:

Docket Numbers: EC10-68-000.

Applicants: Allegheny Energy Inc., FirstEnergy Corp.

Description: FirstEnergy Corp and Allegheny Energy, Inc. submit their response to the FERC's 6/10/10 letter requesting additional information re an application.

Filed Date: 06/21/2010.

Accession Number: 20100622-0005.

Comment Date: 5 p.m. e.t. on Monday, July 12, 2010.

Take notice that the Commission received the following exempt wholesale generator filings:

Docket Numbers: EG06-73-000.

Applicants: BG Dighton Power, LLC.

Description: Notice of Self-Recertification of Exempt Wholesale Generator Status of Dighton Power, LLC.

Filed Date: 06/10/2010.

Accession Number: 20100610-5020.

Comment Date: 5 p.m. e.t. on Friday, July 2, 2010

.

Docket Numbers: EG98-79-000.

Applicants: MASSPOWER.

Description: Notice of Self-Recertification of Exempt Wholesale Generator Status of MASSPOWER.

Filed Date: 06/10/2010.

Accession Number: 20100610-5022.

Comment Date: 5 p.m. e.t. on Friday, July 2, 2010.

Docket Numbers: EG99-220-000.

Applicants: Lake Road Generating Company, LP.

Description: Notice of Self-Recertification of Exempt Wholesale Generator Status of Lake Road Generating Co., L.P.

Filed Date: 06/10/2010.

Accession Number: 20100610-5021.

Comment Date: 5 p.m. e.t. on Friday, July 2, 2010.

Take notice that the Commission received the following electric rate filings:

Docket Numbers: ER02-537-027; ER03-983-024; ER06-738-024; ER06-739-024; ER07-501-023; ER07-758-020; ER08-649-016.

Applicants: Cogen Technologies Linden Venture, L.P., Fox Energy Company LLC, Birchwood Power Partners, L.P., Shady Hills Power Company, L.L.C., East Coast Power Liden Holding, LLC, EFS Parlin Holdings, LLC, Inland Empire Energy Center, LLC.

Description: Third Supplement to Notice of Non-Material Changes in Status of East Coast Power Linden Holding, LLC, et al.

Filed Date: 06/22/2010.

Accession Number: 20100622-5112.

Comment Date: 5 p.m. e.t. on Tuesday, July 13, 2010.

Docket Numbers: ER09-412-013.

Applicants: PJM Interconnection, L.L.C.

Description: PJM Interconnection, LLC submits Substitute Fifth Revised Sheet 572 et al to FERC Electric Tariff, Sixth Revised Volume 1.

Filed Date: 06/22/2010.

Accession Number: 20100623-0201.

Comment Date: 5 p.m. e.t. on Tuesday, July 13, 2010.

Docket Numbers: ER10-549-001.

Applicants: PJM Interconnection, L.L.C.

Description: PJM Interconnection, LLC submits compliance filing in order to clarify the inclusion of certain baseline upgrades as reliability project in the PJM Regional Expansion Plan.

Filed Date: 06/22/2010.

Accession Number: 20100622-0204.

Comment Date: 5 p.m. e.t. on Tuesday, July 13, 2010.

Docket Numbers: ER10-882-000.

Applicants: ISO New England Inc., New England Power Pool.

Description: ISO New England Inc provides responses to the Commission Deficiency Letter issued on May 14, 2010 re a proposal to revise the Forward Capacity Market rules.

Filed Date: 06/14/2010.

Accession Number: 20100615-0005.

Comment Date: 5 p.m. e.t. on Tuesday, July 6, 2010.

Docket Numbers: ER10-1316-000.

Applicants: Southwest Power Pool, Inc.

Description: Southwest Power Pool, Inc submits an executed Large Generator Interconnection Agreement with Western Farmers Electric Cooperative etc.

Filed Date: 05/25/2010.

Accession Number: 20100525-0234.

Comment Date: 5 p.m. e.t. on Wednesday, June 30, 2010.

Docket Numbers: ER10-1522-000.

Applicants: Occidental Chemical Corporation.

Description: Occidental Chemical Corporation submits tariff filing per 35.12: Baseline Tariff Filing, to be effective 6/22/2010.

Filed Date: 06/22/2010.

Accession Number: 20100622-5048.

Comment Date: 5 p.m. e.t. on Tuesday, July 13, 2010.

Docket Numbers: ER10-1523-000.

Applicants: New Hampshire Transmission, LLC.

Description: New Hampshire Transmission, LLC submits Notice of Succession and a revised rate schedule.

Filed Date: 06/22/2010.

Accession Number: 20100622-0212.

Comment Date: 5 p.m. e.t. on Tuesday, July 13, 2010.

Docket Numbers: ER10-1524-000.

Applicants: California Independent System Operator Corporation.

Description: The California Independent System Operator Corporation submits Second Revised Sheet 802B et al. to FERC Electric Tariff, Fourth Replacement Volume 1 to be effective 8/23/10.

Filed Date: 06/22/2010.

Accession Number: 20100623-0202.

Comment Date: 5 p.m. e.t. on Tuesday, July 13, 2010.

Docket Numbers: ER10-1525-000.

Applicants: KGen Hot Spring LLC.

Description: KGen Hot Spring LLC submits tariff filing per 35.12: Initial Baseline Market Based Rate Tariff Filing to be effective 6/23/2010 under ER10-01525-000 Filing Type: 400.

Filed Date: 06/23/2010.

Accession Number: 20100623-5028.

Comment Date: 5 p.m. e.t. on Wednesday, July 14, 2010.

Docket Numbers: ER10-1526-000.

Applicants: KGen Hinds LLC.

Description: KGen Hinds LLC submits tariff filing per 35.12: Initial Baseline Market Based Rate Tariff Filing to be effective 6/23/2010 under ER10-01526-000 Filing Type: 400.

Filed Date: 06/23/2010.

Accession Number: 20100623-5029.

Comment Date: 5 p.m. e.t. on Wednesday, July 14, 2010.

Docket Numbers: ER10-1527-000.

Applicants: KGen Murray I and II LLC.

Description: KGen Murray I and II LLC submits tariff filing per 35.12: Initial Baseline Market Based Rate Tariff to be effective 6/23/2010 under ER10-1527 Filing Type: 400.

Filed Date: 06/23/2010.

Accession Number: 20100623-5030.

Comment Date: 5 p.m. e.t. on Wednesday, July 14, 2010.

Docket Numbers: ER10-1528-000.

Applicants: New York State Electric & Gas Corp.

Description: New York State Electric & Gas Corporation supplement to Rate Schedule 200—Facilities Agreement between NYSEG and the NYPA.

Filed Date: 06/23/2010.

Accession Number: 20100623-0203.

Comment Date: 5 p.m. e.t. on Wednesday, July 14, 2010.

Docket Numbers: ER10-1529-000.

Applicants: Northern Iowa Windpower, LLC.

Description: Northern Iowa Windpower, LLC submits tariff filing per 35.12: Baseline Filing of Northern Iowa Windpower, LLC to be effective 6/23/2010.

Filed Date: 06/23/2010.

Accession Number: 20100623-5091.

Comment Date: 5 p.m. e.t. on Wednesday, July 14, 2010.

Take notice that the Commission received the following electric securities filings:

Docket Numbers: ES10-41-000.

Applicants: National Grid USA.

Description: Supplement to Application of National Grid USA for authorization to issue Securities under Section 204 of the Federal Power Act.

Filed Date: 06/22/2010.

Accession Number: 20100622-5108.

Comment Date: 5 p.m. e.t. on Friday, July 02, 2010.

Docket Numbers: ES10-47-000.

Applicants: Indianapolis Power & Light Company.

Description: Indianapolis Power & Light Company submits its Amended Application for Issuance of Short-Term Debt Instruments pursuant to Section 204 of the FPA.

Filed Date: 06/22/2010.

Accession Number: 20100622-5109.

Comment Date: 5 p.m. e.t. on Friday, July 2, 2010.

Any person desiring to intervene or to protest in any of the above proceedings must file in accordance with rules 211 and 214 of the Commission's rules of practice and procedure (18 CFR 385.211 and 385.214) on or before 5 p.m e.t. on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-15850 Filed 6-29-10; 8:45 am]

BILLING CODE 6717-01-P